DEPARTMENT OF ENERGY

Federal Energy Regulatory Commission

[Docket Nos. EL00-95-000, EL00-95-002, EL00-95-003, EL00-98-000, EL00-98-002, EL00-98-003, EL00-107-000, EL00-97-000, EL00-104-000, EL01-1-000, EL01-27-000 and EL01-10-000]

San Diego Gas & Electric Company, v. Sellers of Energy and Ancillary Services Into Markets Operated by the California Independent System Operator and the California Power Exchange, Respondents; Investigation of Practices of the California Independent System Operator and the California Power Exchange; Public Meeting in San Diego, California; Reliant Energy Power Generation, Inc., Dynegy Power Marketing, Inc., and Southern Energy California, L.L.C., Complainants, v. California Independent System Operator Corporation, Respondent; California Electricity Oversight Board, Complainant, v. All Sellers of Energy and Ancillary Services Into the Energy and Ancillary Services Markets Operated by the California Independent System Operator and the California Power Exchange, Respondents; California Municipal Utilities Association, Complainant, v. all Jurisdictional Sellers of Energy and Ancillary Services Into Markets Operated by the California Independent System Operator and the California Power Exchange, Respondents; Californians for Renewable Energy, Inc. (CARE), Complainant, v. Independent Energy Producers, Inc., and All Sellers of Energy and Ancillary Services Into Markets Operated by the California Independent System Operator and the California Power Exchange; All Scheduling Coordinators Acting on Behalf of the Above Sellers; California Independent System Operator Corporation; and California Power Exchange Corporation, Respondent; Puget Sound Energy, Inc., Complainant v. All Jurisdictional Sellers of Energy and/or Capacity at Wholesale Into Electric Energy and/or Capacity Markets in the Pacific Northwest, Including Parties to the Western Systems Powers Pool Agreement, Respondents; Notice of Organization Of Technical Conference

January 16, 2001.

This notice announces the organization of the previously noticed technical conference, to be held on January 23, on the development of market monitoring procedures for the markets involving the California Independent System Operator.

The conference will begin with a discussion of the principles that should govern market monitoring and an identification of the issues that need to be resolved to develop a market monitoring plan. Following this discussion examples of market monitoring procedures will be considered. This will be an informal, off-the-record conference in its format. The California Independent System Operator staff is expected to present an example of a market monitoring plan for discussion. The California Power Exchange also is expected to propose principles to be used in developing a market monitoring plan and may also present an example of a plan. These proposals will be made available for review in advance on the conference of the Internet websites of these entities (www.caiso.com and www.calpx.com). Any party who would like to propose principles to govern the development of a market monitoring plan or an example of a plan is invited to do so but should make the proposal available to the parties in advance of the conference.

The conference will begin at 9:30 a.m. at 888 First Street, NE., Washington DC in the Commission room, Room 2C. Any questions concerning the conference should be directed to Scott Miller at (202) 208-2171 or Andra Wolfman at (202) 208-2097.

David B. Boergers,
Secretary.

[FR Doc. 01-1755 Filed 1-19-01; 8:45 am]

BILLING CODE 6717-01-M